ENVIRONMENTAL PROTECTION AGENCY

40 CFR Part 52

[WI116-01-7346b; FRL-7515-6]

Approval and Promulgation of Implementation Plans; Wisconsin; Revised Motor Vehicle Emissions Inventories and Motor Vehicle Emissions Budgets Using MOBILE6

AGENCY: Environmental Protection Agency (EPA).

ACTION: Proposed rule.

SUMMARY: EPA is proposing approval of a revision to the Wisconsin State Implementation Plan (SIP) for the attainment and maintenance of the one-hour national ambient air quality standard (NAAQS) for ozone. Specifically, EPA is approving Wisconsin's revised 2007 motor vehicle emission inventories and 2007 Motor Vehicle Emissions Budgets (MVEB) recalculated using MOBILE6 for the Milwaukee severe ozone area and the Sheboygan ozone maintenance area. EPA is also proposing approval of a new 2012 projected MVEB for the Sheboygan ozone maintenance area.

In the “Rules and Regulations” section of this Federal Register, EPA is approving the State's request as a direct final rule without prior proposal, because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by July 21, 2003.

ADDRESSES: Written comments should be mailed to: Carlton Nash, Chief, Regulation Development Section, Air Programs Branch (AR-18J), USEPA, Region 5, 77 West Jackson Boulevard, Chicago, Illinois 60604.

A copy of the plan revision request is available for inspection at the Environmental Protection Agency, Region 5, Air and Radiation Division, 77 West Jackson Boulevard, Chicago, Illinois 60604. (Please telephone Michael Leslie at (312) 353-6680 before visiting the Region 5 Office.)

FOR FURTHER INFORMATION CONTACT: Michael Leslie, Environmental Engineer, Regulation Development Section, Air Programs Branch (AR-18J), USEPA, Region 5, 77 West Jackson Boulevard, Chicago, Illinois 60604, (312) 353-6680.

SUPPLEMENTARY INFORMATION: Throughout this document whenever “we,” “us,” or “our” are used we mean the EPA.

I. What Action Is EPA Taking Today?

II. Where Can I Find More Information About this Proposal and Corresponding Direct Final Rule?

I. What Action Is EPA Taking Today?

On January 31, 2003, the Wisconsin Department of Natural Resources submitted a revision to the Wisconsin SIP for the attainment and maintenance of the one-hour NAAQS for ozone. Specifically, the submittal included revised 2007 motor vehicle emission inventories and 2007 MVEB recalculated using MOBILE6 for the Milwaukee severe ozone area and the Sheboygan ozone maintenance area. The submittal also included of a new 2012 projected MVEB for the Sheboygan ozone maintenance area. EPA is proposing to approve the SIP revision request.

II. Where Can I Find More Information About This Proposal and Corresponding Direct Final Rule?

For additional information see the direct final rule published in the rules section of this Federal Register.

Authority: 42 U.S.C. 4201 et seq.

Date: June 9, 2003.
Bharat Mathur,
Acting Regional Administrator, Region 5.

[FR Doc. 03-15519 Filed 6-19-03; 8:45 am]

BILLING CODE 6560-50-P